DEPARTMENT OF COMMERCE

International Trade Administration

[A-552-801]

Certain Frozen Fish Fillets from the Socialist Republic of Vietnam: Extension of Time Limits for the Preliminary Results of the 2006-2007 Semiannual New Shipper Reviews

AGENCY: Import Administration, International Trade Administration, Department of Commerce.

EFFECTIVE DATE: September 12, 2007.

FOR FURTHER INFORMATION CONTACT: Cindy Lai Robinson, AD/CVD Operations, Office 9, Import Administration, International Trade Administration, U.S. Department of Commerce, 14th Street and Constitution Avenue, NW, Washington DC 20230; telephone:(202) 482-3797.

SUPPLEMENTARY INFORMATION:

Background

On April 2, 2007, the Department published a notice of initiation of antidumping duty new shipper reviews of certain frozen fish fillets from the Socialist Republic of Vietnam (“Vietnam”), covering the period August 1, 2006, through January 31, 2007. See Certain Frozen Fish Fillets from the Socialist Republic of Vietnam: Initiation of Antidumping Duty New Shipper Reviews, 72 FR 15653 (April 2, 2007).

Extension of Time Limit of Preliminary Results

The preliminary results for these new shipper reviews are currently due on September 22, 2007. See section 751(a)(2)(B)(iv) of the Tariff Act of 1930, as amended (“Act”). The Department is extending the time limit for the completion of the preliminary results of these reviews by 90 days because the case is extraordinarily complicated. Id. The 2006-2007 semiannual new shipper reviews cover three companies and involve complicated affiliation and data issues, which require further analysis. Such analysis is necessary in order for the Department to obtain accurate sales and factors of production. In addition, because these are new shipper reviews, the Department needs to analyze bona fide issues with respect to the three respondents, which entails obtaining and analyzing entry data from U.S. Customs and Boarder Protection, and reviewing importer questionnaire responses. Furthermore, the Department needs additional time to analyze information pertaining to the respondents' sales practices, factors of production and corporate relationships. Finally, the Department intends to issue additional supplemental questionnaires to all three respondents.

Given the number and complexity of issues in this case, and in accordance with section 751(a)(2)(B)(iv) of the Act, we are extending the time period for issuing the preliminary results of review by 90 days until December 21, 2007. The final results continue to be due 90 days after the publication of the preliminary results.

This notice is published pursuant to section 751(a)(2)(C)(3)(A) of the Act and section 351.214(h)(I)(1) of the Department's regulations.

Dated: August 30, 2007.
Stephen J. Claeys,
Deputy Assistant Secretary for Import Administration.

[FR Doc. E7-17987 Filed 9-11-07; 8:45 am]

BILLING CODE 3510-DS-S